Title 3—

The President

Proclamation 7626 of November 13, 2002

To Implement Modifications to the Caribbean Basin Economic Recovery Act and the African Growth and Opportunity Act

By the President of the United States of America

A Proclamation

1. Section 3107 of the Trade Act of 2002 (Public Law 107-210) amended the Caribbean Basin Economic Recovery Act (Title II of the Trade Act of 2000, Public Law 106-200) (CBERA) to modify the type and quantity of textile and apparel articles eligible for the preferential tariff treatment now accorded to designated beneficiary Caribbean Basin Trade Partnership Act (CBTPA) countries.

2. Section 3108 of the Trade Act of 2002 amended the African Growth and Opportunity Act (Title I of the Trade Act of 2000, Public Law 106-200) (AGOA) to modify the type and quantity of textile and apparel articles eligible for the preferential tariff treatment now accorded to designated beneficiary sub-Saharan African countries.

3. In order to implement the tariff treatment provided under sections 3107 and 3108 of the Trade Act of 2002, it is necessary to modify the Harmonized Tariff Schedule of the United States (HTS).

4. Section 604 of the Trade Act of 1974 (19 U.S.C. 2483) (1974 Trade Act) authorizes the President to embody in the HTS the substance of the relevant provisions of that Act, and of other acts affecting import treatment, and actions thereunder, including the removal, modification, continuance, or imposition of any rate of duty or other import restriction.

NOW, THEREFORE, I, GEORGE W. BUSH, President of the United States of America, acting under the authority vested in me by the Constitution and the laws of the United States, including section 604 of the 1974 Trade Act, do proclaim that:

(1) In order to provide the preferential treatment provided for in section 213(b)(2)(A) of the CBERA (19 U.S.C. 2703(b)(2)(A)), as amended by section 3107(a) of the Trade Act of 2002, the HTS is modified as provided in Annex I to this proclamation.

(2) In order to provide for the preferential treatment provided for in section 112(b) of the AGOA (19 U.S.C. 3721(b)), as amended by section 3108(a) of the Trade Act of 2002, the HTS is modified as provided in Annex II to this proclamation.

(3) Any provisions of previous proclamations and Executive Orders that are inconsistent with this proclamation are superseded to the extent of such inconsistency.

(4) This proclamation is effective with respect to eligible articles entered, or withdrawn from warehouse for consumption, on or after August 6, 2002; except that section I of Annex I to this proclamation relating to the dyeing, printing, and finishing of fabrics shall be effective with respect to eligible articles entered, or withdrawn from warehouse for consumption, on or after September 1, 2002; and except that section II of Annex I and Annex II relating to increases in the amount of certain articles eligible for duty-free treatment shall be effective with respect to articles entered, or withdrawn from warehouse for consumption, on or after the dates provided in such annex sections.

IN WITNESS WHEREOF, I have hereunto set my hand this thirteenth day of November, in the year of our Lord two thousand two, and of the Independence of the United States of America the two hundred and twenty-seventh.

B

Billing code 3195-01-P

[FR Doc. 02-29372

Filed 11-15-02; 8:45 am]

Billing code 3190-01-C